DEPARTMENT OF TRANSPORTATION

Federal Aviation Administration

14 CFR Part 71

[Docket No. FAA-2010-1027; Airspace Docket No. 10-AGL-15]

Amendment of Class E Airspace; Indianapolis Executive Airport, IN

Correction

In rule document 2011-9404 appearing on pages 22013-22014 in the issue of Wednesday, April 20, 2011, make the following corrections:

§ 71.1 [Corrected]

1. On page 22014, in the second column, on the 4th line from the bottom of the page, “86°102′7″ W” should read “86°10′27″ W”.

2. On the same page, in the third column, on the 4th line from the top of the page, “86°092′0″ W” should read “86°09′20″ W”.

[FR Doc. C1-2011-9404 Filed 5-17-11; 8:45 am]

BILLING CODE 1505-01-D